DEPARTMENT OF ENERGY

Electricity Advisory Committee

AGENCY: Department of Energy, Office of Electricity.

ACTION: Notice of open meeting.

SUMMARY: This notice announces a meeting of the Electricity Advisory Committee (EAC). The Federal Advisory Committee Act (FACA) requires that public notice of these meetings be announced in the Federal Register.

DATES: Tuesday, November 19, 2024; 12:30 to 5:35 p.m. EST.

ADDRESSES: The November meeting of the EAC will be held at the National Rural Electric Cooperative Association Conference Center, 4301 Wilson Blvd., Arlington, VA 22203. Members of the public are encouraged to participate virtually, however, limited physical space is available for members of the public to attend onsite. To register to attend either in-person or virtually, please visit the meeting website: https://www.energy.gov/oe/electricity-advisory-committee-November-2024-meeting. You must register to receive the Webex meeting invitation.

FOR FURTHER INFORMATION CONTACT: Ms. Jayne Faith, Designated Federal Officer, Office of Electricity, U.S. Department of Energy, Washington, DC 20585; Telephone: (202) 586-2983 or Email: Jayne.Faith@hq.doe.gov.

SUPPLEMENTARY INFORMATION:

Purpose of the Committee: The EAC was established in accordance with the provisions of FACA, as amended, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

Tuesday, November 19, 2024

12:15 p.m.-12:30 p.m. WebEx Attendee Sign-On

12:30 p.m.-12:45 p.m. Welcome, Introductions

12:45 p.m.-1:15 p.m. Introductory Remarks from the Office of Electricity

1:15 p.m.-2:15 p.m. Energy Storage Discussion

2:15 p.m.-3:15 p.m. Supply Chain Discussion

3:15 p.m.-3:30 p.m. Break

3:30 p.m.-5:00 p.m. Reliability and Resilience Discussion

5:00 p.m.-5:10 p.m. Subcommittee Updates

5:10 p.m.-5:25 p.m. Public Comments

5:25 p.m.-5:35 p.m. Wrap-up and Adjourn the November 2024 Meeting of the EAC

The meeting agenda and times may change to accommodate EAC business. For EAC agenda updates, see the EAC website at: https://www.energy.gov/oe/electricity-advisory-committee-November-2024-meeting.

Public Participation: The EAC welcomes the attendance of the public at its meetings. Individuals who wish to offer public comments at the EAC meeting may do so on November 19, 2024, but must register in advance by 12 p.m. Eastern time on November 19, 2024, by sending a written request identified by “Electricity Advisory Committee November 2024 Meeting,” to Ms. Jayne Faith at Jayne.Faith@hq.doe.gov. Approximately 15 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee November 2024 Meeting,” to Ms. Jayne Faith at Jayne.Faith@hq.doe.gov.

Minutes: The minutes of the EAC meeting will be posted on the EAC web page at https://www.energy.gov/oe/electricity-advisory-committee-November-2024-meeting. They can also be obtained by contacting Ms. Jayne Faith as described in the ADDRESSES section of this notice.

Signing Authority: This document of the Department of Energy was signed on October 18, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 18, 2024.
Jennifer Hartzell,
Alternate Federal Register Liaison Officer, U.S. Department of Energy.

[FR Doc. 2024-24571 Filed 10-22-24; 8:45 am]

BILLING CODE 6450-01-P